DEPARTMENT OF COMMERCE

International Trade Administration

[C-570-971]

Multilayered Wood Flooring From the People's Republic of China: Partial Rescission of Countervailing Duty Administrative Review; 2018

AGENCY: Enforcement and Compliance, International Trade Administration, Department of Commerce.

SUMMARY: The Department of Commerce (Commerce) is partially rescinding the administrative review of the countervailing duty order on multilayered wood flooring (Wood flooring) from the People's Republic of China (China) for the period of review (POR) January 1, 2018 through December 31, 2018.

DATES: Applicable July 16, 2020.

FOR FURTHER INFORMATION CONTACT: Dennis McClure or Suzanne Lam, AD/CVD Operations, Office VIII, Enforcement and Compliance, International Trade Administration, U.S. Department of Commerce, 1401 Constitution Avenue NW, Washington, DC 20230; telephone: (202) 482-5973 or (202) 482-0783, respectively.

SUPPLEMENTARY INFORMATION:

Background

On December 6, 2019, Commerce published a notice of opportunity to request an administrative review of the countervailing duty order on wood flooring from China.¹ Pursuant to requests from interested parties, Commerce initiated an administrative review with respect to 166 companies, in accordance with section 751(a) of the Tariff Act of 1930, as amended (the Act).² Subsequent to the initiation of the administrative review, the petitioner and a domestic interested party ³ timely withdrew their requests for an administrative review of 162 companies, as discussed below. As a result, all review requests were withdrawn for 91 of these 162 companies.⁴ There are active review requests on the record for the remaining 71 companies.

¹ See Antidumping or Countervailing Duty Order, Finding, or Suspended Investigation; Opportunity to Request Administrative Review, 84 FR 66880 (December 6, 2019).

² See Initiation of Antidumping and Countervailing Duty Administrative Reviews, 85 FR 6896 (February 6, 2020) (Initiation Notice).

³ The petitioner is American Manufacturers of Multilayered Wood Flooring. The domestic interested party is AHF, LLC.

⁴ We note that Riverside Plywood Corporation has reported that Suzhou Times Flooring Co., Ltd. (Suzhou Times) is a cross-owned company and Commerce has treated Suzhou Times as a cross-owned company of Riverside Plywood Corporation in previous administrative reviews. Therefore, because Riverside Plywood Corporation remains under review, we are not rescinding the administrative review for Suzhou Times based on the petitioner's request to rescind the review for Suzhou Times. See Riverside Plywood Corporation's June 4, 2020 Affiliation Response.

Partial Rescission of Administrative Review

Pursuant to 19 CFR 351.213(d)(1), Commerce will rescind an administrative review, in whole or in part, if the party that requested a review withdraws its request within 90 days of the date of publication of the notice of initiation.⁵ All requests for an administrative review were withdrawn by the established deadline, June 25, 2020, for the companies listed in the Appendix.⁶ As a result, Commerce is rescinding this review with respect to these companies, in accordance with 19 CFR 351.213(d)(1). The instant review will continue with respect to the remaining companies in our initiation notice.⁷

⁵ On April 24, 2020, Commerce decided to toll all deadlines in administrative reviews by 50 days. See Memorandum, “Tolling of Deadlines for Antidumping and Countervailing Duty Administrative Reviews in Response to Operational Adjustments Due to COVID-19,” dated April 24, 2020. Therefore, Commerce tolled the deadline for the withdrawal of the requests for this administrative review until June 25, 2020.

⁶ See Domestic Interested Party's Letter, “Multilayered Wood Flooring from the People's Republic of China: Withdrawal of Request for Review—CY 2018 CVD Review Period,” dated May 6, 2020; and Petitioner's Letter, “Multilayered Wood Flooring from the People's Republic of China: Partial Withdrawal of Request for Administrative Review,” dated June 25, 2020.

⁷ See Initiation Notice, 85 FR at 6898.

Assessment

Commerce will instruct U.S. Customs and Border Protection (CBP) to assess countervailing duties on all appropriate entries. For the companies for which this review is rescinded, countervailing duties shall be assessed at rates equal to the cash deposit of estimated countervailing duties required at the time of entry, or withdrawal from warehouse for consumption, in accordance with 19 CFR 351.212(c)(l)(i). Commerce intends to issue appropriate assessment instructions to CBP 15 days after publication of this notice.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: July 10, 2020.
James Maeder,
Deputy Assistant Secretary for Antidumping and Countervailing Duty Operations.

Appendix

Companies Rescinded From Review

1. A&W (Shanghai) Woods Co., Ltd.

2. American Pacific Plywood, Inc.

3. Anhui Suzhou Dongda Wood Co., Ltd.

4. Baishan Huafeng Wooden Product Co., Ltd.

5. Baiying Furniture Manufacturer Co., Ltd.

6. Changbai Mountain Development And Protection Zone Hongtu Wood Industrial Co., Ltd.

7. Chinafloors Timber (China) Co., Ltd.

8. Cheng Hang Wood Co., Ltd.

9. Dalian Dajen Wood Co., Ltd.

10. Dalian Deerfu Wooden Product Co., Ltd.

11. Dalian Guhua Wooden Product Co., Ltd.

12. Dalian Huade Wood Product Co., Ltd.

13. Dalian Jinda Wood Products Corporation

14. Dalian Jiuyuan Wood Industry Co., Ltd.

15. Dalian Meisen Woodworking

16. Dalian Xinjinghua Wood Co., Ltd.

17. Dongtai Zhangshi Wood Industry Co. Ltd.

18. Dunhua City Wanrong Wood Industry Co., Ltd.

19. Fu Lik Timber (HK) Co., Ltd.

20. Fujian Wuyishan Werner Green Industry Co., Ltd.

21. Furnco International Shanghai Company

22. Gaotang Weilong Industry and Trade

23. Gold Seagull Shanghai Flooring

24. GTP International Ltd.

25. Guangdong Fu Lin Timber Technology Limited

26. Guangdong Yihua Timber Industry Co., Ltd.

27. Guangzhou Panyu Kangda Board Co., Ltd.

28. Guangzhou Panyu Southern Star Co., Ltd.

29. HaiLin XinCheng Wooden Products, Ltd.

30. Hangzhou Dazhuang Floor Co., Ltd. (DBA Dasso Industrial Group Co., Ltd.)

31. Hangzhou Huahi Wood Industry Co., Ltd.

32. Henan Xingwangjia Technology Co., Ltd.

33. Hong Kong Easoon Wood Technology Co., Ltd.

34. Huaxin Jiasheng Wood Co., Ltd.

35. Huber Engineering Wood Corp.

36. Huzhou City Nanxun Guangda Wood Co., Ltd.

37. Huzhou Daruo Import And Export

38. Huzhou Fuma Wood Co., Ltd.

39. Huzhou Laike Import and Export Co.

40. Huzhou Muyun Wood Co., Ltd.

41. Jesonwood Forest Products ZJ

42. Jiafeng Wood (Suzhou) Co., Ltd.

43. Jiangsu Kentier Wood Co., Ltd.

44. Jiashan Fengyun Timber Co., Ltd.

45. Jiaxing Brilliant Import & Export Co., Ltd.

46. Jilin Forest Industry Jinqiao Flooring Group Co., Ltd.

47. Kunming Alston (AST) Wood Products Co., Ltd.

48. Liaoning Daheng Timber Group

49. Linyi Bonn Flooring Manufacturing Co., Ltd.

50. Max Choice Wood Industry

51. Mudanjiang Bosen Wood Industry Co., Ltd.

52. Nakahiro Jyou Sei Furniture (Dalian) Co., Ltd.

53. Nanjing Minglin Wooden Industry Co., Ltd.

54. Ningbo Tianyi Bamboo and Wood Products Co., Ltd.

55. Power Dekor North America Inc.

56. PT. Tanjung Kreasi Parquet Industry

57. Qingdao Barry Flooring Co., Ltd.

58. Qingdao Wisdom International

59. Samling Riverside Co., Ltd.

60. Shandong Kaiyuan Wood Industry Co., Ltd.

61. Shandong Puli Trading Co., Ltd.

62. Shanghai Anxin (Weiguang) Timber Co., Ltd.

63. Shanghai Demeija Timber Co., Ltd.

64. Shanghai Eswell Timber Co., Ltd.

65. Shanghai Lairunde Wood Co., Ltd.

66. Shanghai Lizhong Wood Products Co., Ltd. (a/k/a The Lizhong Wood Industry Limited Company of Shanghai)

67. Shanghai New Sihe Wood Co., Ltd.

68. Shanghai Shenlin Corporation

69. Shenyang Haobainian Wooden Co., Ltd.

70. Shenyang Sende Wood Co., Ltd.

71. Shenzhenshi Huanwei Woods Co., Ltd.

72. Suifenhe Chengfeng Trading Co., Ltd.

73. Sunyoung Wooden Products

74. Suzhou Anxin Weiguang Timber Co., Ltd.

75. Tak Wah Building Material (Suzhou) Co.

76. The Greenville Flooring Co., Ltd.

77. Topocean Consolidation Service

78. Vicwood Industry (Suzhou) Co. Ltd.

79. Xuzhou Antop International Trade Co., Ltd.

80. Yixing Lion-King Timber Industry

81. Zhejiang Anji Xinfeng Bamboo And Wood Industry Co., Ltd.

82. Zhejiang Biyork Wood Co., Ltd.

83. Zhejiang Dadongwu Auto Elect Motor

84. Zhejiang Desheng Wood Industry Co., Ltd.

85. Zhejiang Fudeli Timber Industry Co., Ltd.

86. Zhejiang Fuma Warm Technology Co., Ltd.

87. Zhejiang Haoyun Wooden Co., Ltd.

88. Zhejiang Jesonwood Co., Ltd.

89. Zhejiang Jiaye Flooring

90. Zhejiang Tianzhen Bamboo & Wood Development Co., Ltd.

91. Zhejiang Yongyu Bamboo Joint-Stock Co., Ltd.

[FR Doc. 2020-15310 Filed 7-15-20; 8:45 am]

BILLING CODE 3510-DS-P